DEPARTMENT OF COMMERCE

International Trade Administration

[A-570-990]

Final Determination of Sales at Less Than Fair Value: Prestressed Concrete Steel Rail Tie Wire From the People's Republic of China

AGENCY: Enforcement and Compliance, International Trade Administration, Department of Commerce.

DATES: Effective Date: May 5, 2014.

SUMMARY: The Department of Commerce (the Department) determines that imports of prestressed concrete steel rail tie wire (PC tie wire) from the People's Republic of China (PRC) are being, or likely to be, sold in the United States at less than fair value (LTFV), as provided in section 735 of the Tariff Act of 1930, as amended (the Act). The final weighted-average dumping margins for this investigation are listed in the “Final Determination Margins” section below.

FOR FURTHER INFORMATION CONTACT: Brian Smith or Stephanie Arthur, AD/CVD Operations, Office II, Enforcement and Compliance, International Trade Administration, U.S. Department of Commerce, 14th Street and Constitution Avenue NW., Washington, DC 20230; telephone: (202) 482-1766 or (202) 482-2181.

SUPPLEMENTARY INFORMATION:

Background

The Department published the preliminary determination in the LTFV investigation of PC tie wire from the PRC on December 12, 2013.¹ The following events occurred since the preliminary determination was issued. Between January 8 and 14, 2014, the Department conducted verification of the mandatory respondent Silvery Dragon Group Technology and Trading Co., Ltd. Tianjin and its affiliated producers, Silvery Dragon Prestressed Materials Co., Ltd. Tianjin and Silvery Dragon Prestressed Materials Co., Ltd. Tianjin—Hejian Branch (collectively “Silvery Dragon”).² On March 18, 2014, the petitioners³ withdrew their January 3, 2014, request for a hearing.⁴ As no other party in this proceeding requested a hearing, no hearing was held. On March 21, 2014, Silvery Dragon and the petitioners submitted case briefs.⁵ On March 28, 2014, both interested parties submitted rebuttal briefs.⁶

¹ See Prestressed Concrete Steel Rail Tie Wire From the People's Republic of China: Preliminary Determination of Sales at Less Than Fair Value and Postponement of Final Determination, 78 FR 75545 (December 12, 2013) (Preliminary Determination).

² See the “Verification” section below.

³ The petitioners are Davis Wire Corporation and Insteel Wire Products Company.

⁴ See Letter from the petitioners to the Secretary of Commerce, “Investigation of Prestressed Concrete Steel Rail Tie Wire from the People's Republic of China—Request for Rebuttal Brief Extension and Withdrawal of Hearing Request,” dated March 18, 2014.

⁵ See Letter from Silvery Dragon to the Secretary of Commerce, “Silvery Dragon Case Brief: Antidumping Duty Investigation of Prestressed Concrete Steel Rail Tie Wire from the People's Republic of China,” dated March 21, 2014; see also Letter from the Petitioners to the Secretary of Commerce, “Investigation of Prestressed Concrete Steel Rail Tie Wire from the People's Republic of China: Petitioners' Case Brief,” dated March 21, 2014.

⁶ See Letter from Silvery Dragon to the Secretary of Commerce, “Silvery Dragon Rebuttal Case Brief: Antidumping Duty Investigation of Prestressed Concrete Steel Rail Tie Wire from the People's Republic of China,” dated March 28, 2014; see also Letter from the Petitioners to the Secretary of Commerce, “Investigation of Prestressed Concrete Steel Rail Tie Wire from the People's Republic of China: Petitioners' Rebuttal Case Brief,” dated March 28, 2014.

Period of Investigation

The period of investigation (POI) is October 1, 2012, through March 31, 2013. This period corresponds to the two most recent fiscal quarters prior to the month of the filing of the petition, which was April 2013.⁷

⁷ See 19 CFR 351.204(b)(1).

Scope of the Investigation

The product covered by the scope of this investigation is high carbon steel wire; stress relieved or low relaxation; indented or otherwise deformed; meeting at a minimum the physical, mechanical, and chemical requirements of the American Society of Testing Materials (ASTM) A881/A881M specification; regardless of shape, size or alloy element levels; suitable for use as prestressed tendons in concrete railroad ties (PC tie wire). High carbon steel is defined as steel that contains 0.6 percent or more of carbon by weight.

PC tie wire is classified under the Harmonized Tariff Schedule of the United States (HTSUS) subheading 7217.10.8045, but may also be classified under subheadings 7217.10.7000, 7217.10.8025, 7217.10.8030, 7217.10.8090, 7217.10.9000, 7229.90.1000, 7229.90.5016, 7229.90.5031, 7229.90.5051, 7229.90.9000, and 7312.10.3012. Although the HTSUS subheadings are provided for convenience and customs purposes, the written description of the scope of the investigation is dispositive.

Analysis of Comments Received

All issues raised in the case and rebuttal briefs by parties to this investigation are addressed in the Issues and Decision Memorandum.⁸ A list of the issues which the parties raised and to which the Department responded in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov and it is available to all parties in the Central Records Unit, room 7046 of the main Department of Commerce building. In addition, a complete version of the Issues and Decision Memorandum can be accessed directly at http://enforcement.trade.gov/frn/. The signed and electronic versions of the Issues and Decision Memorandum are identical in content.

⁸ See Memorandum from Christian Marsh, Deputy Assistant Secretary for Antidumping and Countervailing Duty Operations, to Paul Piquado, Assistant Secretary for Enforcement and Compliance, “Prestressed Concrete Steel Rail Tie Wire from the People's Republic of China: Issues and Decision Memorandum for the Final Determination of Sales at Less Than Fair Value,” dated concurrently with this notice (Issues and Decision Memorandum).

Changes Since the Preliminary Determination

Based on the Department's analysis of the comments received and our findings at verification, we made certain changes to the margin calculations. For a discussion of these changes, see the “Margin Calculations” section of the Issues and Decision Memorandum.

Verification

As provided in section 782(i) of the Act and 19 CFR 351.307(b)(1)(i), in January 2014, the Department verified the information submitted by Silvery Dragon for use in the final determination. The Department used standard verification procedures, including examination of relevant accounting and production records and original source documents provided by Silvery Dragon.⁹

⁹ See Memorandum to the File through James Maeder, Office Director, AD/CVD Operations, Office 2 and Irene Darzenta Tzafolias, Program Manager, AD/CVD Operations, Office 2, from Brian Smith, Senior International Trade Analyst, AD/CVD Operations, Office 2 and Stephanie Arthur, Senior Accountant, Office of Accounting, “Verification of the Sales and Factors Response of Silvery Dragon Group Technology and Trading Co., Ltd., Silvery Dragon Prestressed Materials Co., Ltd. Tianjin, and Silvery Dragon Prestressed Materials Co., Ltd. Tianjin—Hejian Branch in the Antidumping Duty Investigation of Prestressed Concrete Steel Rail Tie Wire from the People's Republic of China (PRC),” dated March 13, 2014 (Verification Report).

Final Determination Margins

The Department determines that the following weighted-average dumping margins exist for the period October 1, 2012, through March 31, 2013.

Exporter | Producer | Weighted-average dumping margin (percent)
Silvery Dragon Group Technology and Trading Co., Ltd. Tianjin | Silvery Dragon Prestressed Materials Co., Ltd. Tianjin | 31.40
PRC-wide Entity ¹⁰ |  | 35.31

Disclosure

We intend to disclose to parties the calculations performed in this proceeding within five days of the date of publication of this notice in accordance with 19 CFR 351.224(b).

¹⁰ The PRC-wide entity includes Wuxi Jinyang Metal Products Co., Ltd. and Shanxi New-Mile International Trade Co., Ltd. Each of these entities withheld necessary information within the meaning of section 776(a) of the Tariff Act of 1930, as amended (the Act), and failed to act to the best of its ability to comply with the Department's requests for information within the meaning of section 776(b) of the Act. Therefore, we applied adverse facts available, determining that these entities were part of the PRC-wide entity. See Issues and Decision Memorandum for further discussion.

Continuation of Suspension of Liquidation

In accordance with section 735(c)(1)(B) of the Act, the Department will instruct U.S. Customs and Border Protection (CBP) to continue to suspend liquidation of all appropriate entries of PC tie wire from the PRC as described in the “Scope of the Investigation” section, which were entered, or withdrawn from warehouse, for consumption on or after December 12, 2013, the date of publication of the Preliminary Determination in the Federal Register. Further, the Department will instruct CBP to require a cash deposit equal to the weighted-average amount by which the normal value exceeds U.S. price as follows: (1) For the exporter/producer combination listed in the table above, the cash deposit rate will be equal to the dumping margin which the Department determined in this final determination; (2) for all combinations of PRC exporters/producers of merchandise under consideration which have not received their own separate rate above, the cash deposit rate will be equal to the dumping margin established for the PRC-wide entity; and (3) for all non-PRC exporters of merchandise under consideration which have not received their own separate rate above, the cash deposit rate will be equal to the cash deposit rate applicable to the PRC exporter/producer combination that supplied that non-PRC exporter. These suspension-of-liquidation instructions will remain in effect until further notice.

ITC Notification

In accordance with section 735(d) of the Act, we notified the International Trade Commission (ITC) of the final affirmative determination of sales at LTFV. As the Department's final determination is affirmative, in accordance with section 735(b)(2) of the Act, the ITC will determine, within 45 days, whether the domestic industry in the United States is materially injured, or threatened with material injury, by reason of imports of subject merchandise, or sales (or the likelihood of sales) for importation, of the subject merchandise. If the ITC determines that such injury does not exist, this proceeding with be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Return or Destruction of Proprietary Information

This notice also serves as a reminder to the parties subject to administrative protective order (APO) of their responsibility concerning the disposition of propriety information disclosed under APO in accordance with 19 CFR 351.305. Timely written notification of return or destruction of APO materials or conversion to judicial protective order is hereby requested. Failure to comply with the regulations and terms of an APO is a sanctionable violation,

This determination is issued and published in accordance with sections 735(d) and 777(i)(1) of the Act.

Dated: April 28, 2014.
Paul Piquado,
Assistant Secretary for Enforcement and Compliance.

Appendix—Issues and Decision Memorandum

I. Summary

II. Background

III. Scope of Investigation

IV. Scope Comments

V. Use of Adverse Facts Available

VI. Margin Calculations

VII. Discussion of Issues

1. Value Added Tax

2. Withdrawal of Targeted Dumping Regulation and Application of Differential Pricing Analysis

3. Inclusion of Brokerage and Handling Expenses in the Calculation of Input Surrogate Values

4. Truck Freight Surrogate Value

5. Weight Adjustment Made to the Brokerage and Handling Surrogate Value

6. Marine Insurance Surrogate Value

7. Polypropylene Fabric Surrogate Value

8. Electricity Surrogate Value

9. Electricity Consumption Factor Adjustment

10. Treatment of Social Security/Workman's Compensation in Surrogate Financial Ratio Calculations

11. Treatment of Transportation Expenses in Surrogate Financial Ratio Calculations

[FR Doc. 2014-10240 Filed 5-2-14; 8:45 am]

BILLING CODE 3510-DS-P